DEPARTMENT OF HEALTH AND HUMAN SERVICES

Centers for Disease Control and Prevention

Disease, Disability, and Injury Prevention and Control Special Emphasis Panels (SEP): HIV III—OPT-Out Testing in Emergency Department Settings, Program Announcement (PA) PS06-003 and Formative Internet-Based Interventions Research To Improve the Health and Reduce HIV Transmission Among HIV Positive Persons, PA PS06-004

In accordance with section 10(a)(2) of the Federal Advisory Committee Act (Pub. L. 92-463), the Centers for Disease Control and Prevention (CDC) announces the following meeting:

Name: Disease, Disability, and Injury Prevention and Control Special Emphasis Panel (SEP): HIV III—OPT-Out Testing in Emergency Department Settings, PA PS06-003 and Formative Internet-Based Interventions Research to Improve the Health and Reduce HIV Transmission Among HIV Positive Persons, PA PS06-004.

Time and Date: 8 a.m.-5 p.m., June 22, 2006 (Closed).

Place: Marriott Suites Midtown, 35 14th Street, Atlanta, GA 30309, Telephone 404-876-8888.

Status: The meeting will be closed to the public in accordance with provisions set forth in section 552b(c) (4) and (6), Title 5 U.S.C., and the Determination of the Director, Management Analysis and Services Office, CDC, pursuant to Public Law 92-463.

Matters to be Discussed: The meeting will include the review, discussion, and evaluation of applications received in response to “HIV III—OPT-Out Testing in Emergency Department Settings,” Program Announcement (PA) PS06-003 and “Formative Internet-Based Interventions Research to Improve the Health and Reduce HIV Transmission Among HIV Positive Persons,” PA PS06-004.

For Further Information Contact: Chris Langub, Ph.D., Scientific Review Administrator, National Institute for Occupational Safety and Health, CDC, 1600 Clifton Road NE., Mailstop D72, Atlanta, GA 30333, Telephone 404-639-4640.

The Director, Management Analysis and Services Office, has been delegated the authority to sign Federal Register notices pertaining to announcements of meetings and other committee management activities, for both CDC and the Agency for Toxic Substances and Disease Registry.

Dated: May 19, 2006.
Alvin Hall,
Director, Management Analysis and Services Office, Centers for Disease Control and Prevention.

[FR Doc. E6-8127 Filed 5-25-06; 8:45 am]

BILLING CODE 4163-18-P